FEDERAL ELECTION COMMISSION

Sunshine Act Notices

AGENCY: Federal Election Commission.

Date and Time: Thursday, October 25, 2007, at 10 a.m.

Place: 999 E Street, NW., Washington, DC (Ninth Floor).

Status: This meeting will be open to the public.

The Following Item Has Been Added To The Agenda: Policy Statement Making Permanent a Program for Probable Cause Hearings.

Person to Contact for Information: Mr. Robert Biersack, Press Officer, Telephone: (202) 694-1220.

Mary W. Dove,
Secretary of the Commission.

[FR Doc. 07-5231 Filed 10-18-07; 3:18 pm]

BILLING CODE 6715-01-M